DEPARTMENT OF COMMERCE

Membership of the Departmental Performance Review Board

AGENCY: Department of Commerce.

ACTION: Notice of Membership on the Departmental Performance Review Board.

SUMMARY: In accordance with 5 U.S.C., 4314(c)(4), Department of Commerce (DOC) announces the appointment of persons to serve as members of the Departmental Performance Review Board (DPRB). The DPRB provides an objective peer review of the initial performance ratings, performance-based pay adjustments and bonus recommendations, higher-level review requests and other performance-related actions submitted by appointing authorities for Senior Executive Service (SES) members whom they directly supervise, and makes recommendations based upon its review. The term of the new members of the DPRB will expire December 31, 2017.

DATES: Effective Date: The effective date of service of appointees to the Departmental Performance Review Board is based upon publication of this notice.

FOR FURTHER INFORMATION CONTACT: Denise A. Yaag, Director, Office of Executive Resources, Office of Human Resources Management, Office of the Director, 14th and Constitution Avenue NW., Washington, DC 20230, (202) 482-3600.

SUPPLEMENTARY INFORMATION: The names and position titles of the members of the DPRB are set forth below by organization:

Departmental Performance Review Board 2015-2016

Pravina Raghavan, Senior Advisor for Policy and Program Integration, Office of the Deputy Secretary

Ian J. Kahn, Chief Data Officer, OS (non-career)

Theodore C.Z. Johnston, Director, Office of Business Liaison, OS (non-career)

Jennifer Ayers, Director, Office of the Secretary Financial Management, CFO/ASA

Benjamin P. Friedman, Associate General Counsel for Oversight, OGC

Richard Majauskus, Deputy Assistant Secretary for Export Enforcement, BIS

H. Philip Paradice, Jr., Regional Director, EDA

Kenneth A. Arnold, Deputy Under Secretary for Economic Affairs, ESA

Joanne Buenzli Crane, Associate Director for Administration and Chief Financial Officer, Census

Kurt Bersani, Deputy Chief Financial and Administrative Officer, ITA

Edith McCloud, Associate Director for Management, MBDA

Mark Seiler, Chief Financial Officer, NOAA

Leonard M. Bechtel, Chief Financial Officer and Director of Administration, NTIA

Mary Saunders, Associate Director for Management Resources, NIST

Alejandro Rodriguez, Chief of Staff, Office of the Deputy Secretary

Dated: September 22, 2015.
Denise A. Yaag,
Director, Office of Executive Resources.

[FR Doc. 2015-25073 Filed 10-2-15; 8:45 am]

BILLING CODE 3510-BS-M